DEPARTMENT OF ENERGY

Federal Energy Regulatory Commission

Combined Notice of Filings #2

Take notice that the Commission received the following electric rate filings:

Docket Numbers: ER10-1790-012; ER10-2596-005; ER10-276-003; ER11-3325-004.

Applicants: BP Energy Company, Fowler Ridge II Wind Farm LLC, Rolling Thunder I Power Partners, LLC, Whiting Clean Energy, Inc.

Description: Updated Market Power Analysis for Central Region of BP Energy Company, et al.

Filed Date: 6/26/15.

Accession Number: 20150626-5168.

Comments Due: 5 p.m. ET 8/25/15.

Docket Numbers: ER14-153-004; ER14-154-004; ER13-2386-004; ER10-3143-016; ER10-2742-007.

Applicants: Gibson City Energy Center, LLC, Grand Tower Energy Center, LLC, Lakeswind Power Partners, LLC, Sabine Cogen, LP, Tilton Energy LLC.

Description: Triennial Market-Based Rate Update Filing for the Central Region of the Rockland Sellers.

Filed Date: 6/26/15.

Accession Number: 20150626-5213.

Comments Due: 5 p.m. ET 8/25/15.

Docket Numbers: ER15-1919-000.

Applicants: California Independent System Operator Corporation.

Description: Report Filing: Errata to EIM Year One Enhancements—Phase 1 to be effective N/A.

Filed Date: 6/25/15.

Accession Number: 20150625-5086.

Comments Due: 5 p.m. ET 7/16/15.

Docket Numbers: ER15-2008-000.

Applicants: Tucson Electric Power Company.

Description: Section 205(d) Rate Filing: Concurrence to APS Service Agreement No. 209 to be effective 12/30/2013.

Filed Date: 6/26/15.

Accession Number: 20150626-5120.

Comments Due: 5 p.m. ET 7/17/15.

Docket Numbers: ER15-2009-000.

Applicants: 2015 ESA Project Company, LLC.

Description: Baseline eTariff Filing: 2015 ESA Project Company—MBR Filing to be effective 6/26/2015.

Filed Date: 6/26/15.

Accession Number: 20150626-5143.

Comments Due: 5 p.m. ET 7/17/15.

Docket Numbers: ER15-2010-000.

Applicants: Wisconsin Public Service Corporation.

Description: Market-Based Triennial Review Filing: IEG Triennial MBR Update in Docket Nos. ER10-1894, 1882, 3036 and 3042 to be effective 8/25/2015.

Filed Date: 6/26/15.

Accession Number: 20150626-5158.

Comments Due: 5 p.m. ET 7/17/15.

Docket Numbers: ER15-2011-000.

Applicants: Wisconsin River Power Company.

Description: Market-Based Triennial Review Filing: IEG Triennial MBR Update in Docket Nos. ER10-1894, 1882, 3036 and 3042 to be effective 8/25/2015.

Filed Date: 6/26/15.

Accession Number: 20150626-5159.

Comments Due: 5 p.m. ET 7/17/15.

Docket Numbers: ER15-2012-000.

Applicants: WPS Power Development, LLC.

Description: Market-Based Triennial Review Filing: IEG Triennial MBR Update in Docket Nos. ER10-1894, 1882, 3036 and 3042 to be effective 8/25/2015.

Filed Date: 6/26/15.

Accession Number: 20150626-5162.

Comments Due: 5 p.m. ET 7/17/15.

Docket Numbers: ER15-2013-000.

Applicants: Talen Energy Marketing, LLC.

Description: Section 205(d) Rate Filing: MBR Tariff Revisions to be effective 6/27/2015.

Filed Date: 6/26/15.

Accession Number: 20150626-5163.

Comments Due: 5 p.m. ET 7/17/15.

Docket Numbers: ER15-2014-000.

Applicants: Brunner Island, LLC.

Description: Section 205(d) Rate Filing: MBR Revisions to be effective 6/27/2015.

Filed Date: 6/26/15.

Accession Number: 20150626-5164.

Comments Due: 5 p.m. ET 7/17/15.

Docket Numbers: ER15-2015-000.

Applicants: Holtwood, LLC.

Description: Section 205(d) Rate Filing: MBR Revisions to be effective 6/27/2015.

Filed Date: 6/26/15.

Accession Number: 20150626-5165.

Comments Due: 5 p.m. ET 7/17/15.

Docket Numbers: ER15-2016-000.

Applicants: Talen Ironwood, LLC.

Description: Section 205(d) Rate Filing: MBR Revisions to be effective 6/27/2015.

Filed Date: 6/26/15.

Accession Number: 20150626-5166.

Comments Due: 5 p.m. ET 7/17/15.

Docket Numbers: ER15-2017-000.

Applicants: Lower Mount Bethel Energy, LLC.

Description: Section 205(d) Rate Filing: MBR Revisions to be effective 6/27/2015.

Filed Date: 6/26/15.

Accession Number: 20150626-5167.

Comments Due: 5 p.m. ET 7/17/15.

Docket Numbers: ER15-2018-000.

Applicants: Martins Creek, LLC.

Description: Section 205(d) Rate Filing: MBR Revisions to be effective 6/27/2015.

Filed Date: 6/26/15.

Accession Number: 20150626-5171.

Comments Due: 5 p.m. ET 7/17/15.

Docket Numbers: ER15-2019-000.

Applicants: Wisconsin Electric Power Company.

Description: Market-Based Triennial Review Filing: Wisconsin Electric Power Company 2015 Market Based Rate Triennial Review to be effective 8/25/2015.

Filed Date: 6/26/15.

Accession Number: 20150626-5181.

Comments Due: 5 p.m. ET 7/17/15.

Docket Numbers: ER15-2020-000.

Applicants: Talen Montana, LLC.

Description: Section 205(d) Rate Filing: MBR Revisions to be effective 6/27/2015.

Filed Date: 6/26/15.

Accession Number: 20150626-5188.

Comments Due: 5 p.m. ET 7/17/15.

Docket Numbers: ER15-2021-000.

Applicants: Midcontinent Independent System Operator, Inc.

Description: Section 205(d) Rate Filing: 2015-06-26_SA 2812 GRE-MP Savanna-Cromwell T-TIA to be effective 6/15/2015.

Filed Date: 6/26/15.

Accession Number: 20150626-5191.

Comments Due: 5 p.m. ET 7/17/15.

Docket Numbers: ER15-2022-000

Applicants: Montour, LLC.

Description: Section 205(d) Rate Filing: MBR Revisions to be effective 6/27/2015.

Filed Date: 6/26/15.

Accession Number: 20150626-5197.

Comments Due: 5 p.m. ET 7/17/15.

Docket Numbers: ER15-2023-000.

Applicants: Talen New Jersey Biogas, LLC.

Description: Section 205(d) Rate Filing: MBR Tariff to be effective 6/27/2015.

Filed Date: 6/26/15.

Accession Number: 20150626-5202.

Comments Due: 5 p.m. ET 7/17/15.

Docket Numbers: ER15-2024-000.

Applicants: Talen New Jersey Solar, LLC.

Description: Section 205(d) Rate Filing: MBR Revisions to be effective 6/27/2015.

Filed Date: 6/26/15.

Accession Number: 20150626-5206.

Comments Due: 5 p.m. ET 7/17/15.

Docket Numbers: ER15-2025-000.

Applicants: Talen Renewable Energy, LLC.

Description: Section 205(d) Rate Filing: MBR Revisions to be effective 6/27/2015.

Filed Date: 6/26/15.

Accession Number: 20150626-5208.

Comments Due: 5 p.m. ET 7/17/15.

Docket Numbers: ER15-2026-000.

Applicants: Susquehanna Nuclear, LLC.

Description: Section 205(d) Rate Filing: MBR Revisions to be effective 6/27/2015.

Filed Date: 6/26/15.

Accession Number: 20150626-5210.

Comments Due: 5 p.m. ET 7/17/15.

Docket Numbers: ER15-2027-000.

Applicants: PacifiCorp.

Description: Termination of City of Eagle Mountain Transmission Interconnection Agreement of PacifiCorp.

Filed Date: 6/26/15.

Accession Number: 20150626-5212.

Comments Due: 5 p.m. ET 7/17/15.

Take notice that the Commission received the following land acquisition reports:

Docket Numbers: LA15-2-000.

Applicants: NorthPoint Energy Solutions, Inc.

Description: Quarterly Land Acquisition Report of NorthPoint Energy Solutions, Inc.

Filed Date: 6/26/15.

Accession Number: 20150626-5190.

Comments Due: 5 p.m. ET 7/17/15.

Take notice that the Commission received the following electric reliability filings:

Docket Numbers: RR15-12-000.

Applicants: North American Electric Reliability Corporation.

Description: Petition of the North American Electric Reliability Corporation for Approval of the Revised Pro Forma Regional Delegation Agreement and the Revised Regional Delegation Agreements with the Eight Regional Entities.

Filed Date: 6/26/15.

Accession Number: 20150626-5230.

Comments Due: 5 p.m. ET 7/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2015.
Kimberly D. Bose,
Secretary.

[FR Doc. 2015-16307 Filed 7-1-15; 8:45 am]

BILLING CODE 6717-01-P